Proclamation 8990 of May 31, 2013

National Caribbean-American Heritage Month, 2013

By the President of the United States of America

A Proclamation

For centuries, the United States and nations in the Caribbean have grown alongside each other as partners in progress. Separated by sea but united by a yearning for independence, our countries won the right to chart their own destinies after generations of colonial rule. Time and again, we have led the way to a brighter future together—from lifting the stains of slavery and segregation to widening the circle of opportunity for our sons and daughters.

National Caribbean-American Heritage Month is a time to celebrate those enduring achievements. It is also a chance to recognize men and women who trace their roots to the Caribbean. Through every chapter of our Nation's history, Caribbean Americans have made our country stronger—reshaping our politics and reigniting the arts, spurring our movements and answering the call to serve. Caribbean traditions have enriched our own, and woven new threads into our cultural fabric. Again and again, Caribbean immigrants and their descendants have reaffirmed America's promise as a land of opportunity—a place where no matter who you are or where you come from, you can make it if you try.

Together, as a Nation of immigrants, we will keep writing that story. And alongside our partners throughout the Caribbean, we will keep working to achieve inclusive economic growth, access to clean and affordable energy, enhanced security, and lasting opportunity for all our people. As we honor Caribbean Americans this month, let us strengthen the ties that bind us as members of the Pan American community, and let us resolve to carry them forward in the years ahead.

NOW, THEREFORE, I, BARACK OBAMA, President of the United States of America, by virtue of the authority vested in me by the Constitution and the laws of the United States, do hereby proclaim June 2013 as National Caribbean-American Heritage Month. I encourage all Americans to celebrate the history and culture of Caribbean Americans with appropriate ceremonies and activities.

IN WITNESS WHEREOF, I have hereunto set my hand this thirty-first day of May, in the year of our Lord two thousand thirteen, and of the Independence of the United States of America the two hundred and thirty-seventh.

[FR Doc. 2013-13544

Filed 6-5-13; 8:45 am]

Billing code 3295-F3